DEPARTMENT OF ENERGY

Federal Energy Regulatory Commission

[Docket No. RM24-4-000]

Supply Chain Risk Management Reliability Standards Revisions; Supplemental Notice of Supply Chain Workshop

As announced in the Notice of Supply Chain Workshop issued in this proceeding on February 24, 2025, staff of the Federal Energy Regulatory Commission (Commission) and North American Electric Reliability Corporation (NERC) will hold a joint workshop on March 20, 2025, from 1 p.m. to 5 p.m. EDT at the Federal Energy Regulatory Commission, 888 First Street NE, Washington, DC 20426.

The workshop will focus on the “assessment” aspect of supply chain risk management (SCRM). Specifically, the workshop panels will discuss the proposed directive in the Commission's September 19, 2024, Notice of Proposed Rulemaking ¹ to require that entities establish steps in SCRM plans to validate the completeness and accuracy of information received from vendors during the procurement process to better inform the identification and assessment of supply chain risks associated with vendors' software, hardware, or services.

¹ Supply Chain Risk Management Reliability Standards Revisions, Notice of Proposed Rulemaking, 188 FERC ¶ 61,174 (2024).

The workshop will take place in a hybrid format, with panelists participating in person and attendees allowed in person or virtually. The conference will be open for the public to attend, and there is no fee for attendance. All in-person attendees must register here. Virtual attendance does not require registration. Information on this workshop, including the links for virtual attendance and for submitting questions online during the Q&A sessions of the workshop, will be posted on the Calendar of Events on the Commission's website here the morning of the event.

Attached to this Supplemental Notice is an agenda for the workshop, which includes additional information on the discussions. Participation in the discussions will be limited to invited panelists and staff members from the Commission and NERC. However, interested parties are encouraged to listen to and observe the discussions. During the Q&A sessions, in-person attendees may ask live questions and virtual attendees may submit written questions online. The conference will also be transcribed. Transcripts will be available for a fee from Ace Reporting, (202) 347-3700. The Commission will accept comments following the workshop in Docket No. RM24-4-000, with a deadline of March 28, 2025.

This workshop will be accessible under section 508 of the Rehabilitation Act of 1973. For accessibility accommodations please send an email to accessibility@ferc.gov or call toll free (866) 208-3372 (voice) or (202) 502-8659 (TTY), or send a fax to (202) 208-2106 with the required accommodations.

For more information about this workshop, please contact Alan Herd at alan.herd@ferc.gov, Jamie Calderon at jamie.calderon@nerc.net, or Michaelson Buchanan at michaelson.buchanan@nerc.net.

Dated: March 13, 2025.
Debbie-Anne A. Reese,
Secretary.

[FR Doc. 2025-04697 Filed 3-19-25; 8:45 am]

BILLING CODE 6717-01-P